DEPARTMENT OF JUSTICE

Drug Enforcement Administration

[Docket No. 01-31]

Deborah Bordeaux, M.D.; Revocation of Registration

On June 8, 2001, the Administrator of the Drug Enforcement Administration (DEA), issued an Order to Show Cause/Immediate Suspension of Registration to Deborah Bordeaux, M.D. (Dr. Bordeaux), notifying her of an opportunity to show cause as to why DEA should not revoke her DEA Certificate of Registration, BB3869370, as a practitioner, pursuant to 21 U.S.C. 824(a)(4) for reason that Dr. Bordeaux's continued registration would be inconsistent with the public interest and to deny any pending applications for renewal of registration pursuant to 21 U.S.C. 823(f). The Order to Show Cause/Immediate Suspension of Registration further advised Dr. Bordeaux that her DEA Certificate of Registration had been suspended, pursuant to 21 U.S.C. 824(d), as an imminent danger to public health and safety.

The Order to Show Cause/Immediate Suspension of Registration alleged, inter alia, that for February 2000 through Febrary 2001, Dr. Bordeaux was employed by the Comprehensive Care & Pain Management Center (CCPMC) and the Myrtle Beach Medical Clinic (MBMC), both located in Myrtle Beach, South Carolina. During this period she routinely and continually prescribed controlled substances, including Oxycontin, Lortab and Lorcet, to patients without adequate medical testing, validation of patients' complaints or consideration of more appropriate alternative treatments.

Many of these patients were traveling hundreds of miles to CCPMC, bypassing legitimate physicians qualified to treat chronic pain. DEA investigators also determined that a number of Dr. Bordeaux's patients were at drug treatment centers throughout South Carolina, where they were being treated for addiction to Oxycontin that had repeatedly been prescribed them by Dr. Bordeaux and other CCPMC physicians.

It was further alleged that she routinely issued controlled substance prescriptions to patients never seen by staff physicians and issued refills of Oxycontin prescriptions for no reason other than the patients “wanted” refills. Further, in March 2001, Dr. Bordeaux opened her own clinic where, until she was told by DEA investigators that she was operating at an unregistered location, she continued to prescribe controlled substances without obtaining DEA approval to modify here registered address. She also indicated that she had been invited to resume work as a physician at CCPMC and it was alleged that she had continued her prescribing practices, even after becoming aware of DEA's investigation into those practices.

On July 3, 2001, counsel for Dr. Bordeaux requested a hearing and following prehearing procedures, Presiding Administrative Law Judge Mary Ellen Bittner (Judge Bittner) scheduled the hearing to begin on July 16, 2002. On July 10, 2002, counsel for Dr. Bordeaux filed a Motion to Defer Hearing as a result of her indictment by a Federal grant jury on charges stemming from the conduct alleged in the Order to Show Cause/Immediate Suspension of Registration. That motion was granted on July 10, 2002.

On February 27, 2004, counsel for the Government filed a Motion for Summary Judgment. It alleged that on February 10, 2003, Dr. Bordeaux had been convicted in United States District Court for the District of South Carolina, of Conspiracy to Unlawfully Distribute Controlled Substances, in violation of 21 U.S.C. 846. Further, the motion alleged that March 10, 2003, the State Board of Medical Examiners of South Carolina (Medical Board) issued an Order of Temporary Suspension of Dr. Bordeaux's license to practice medicine in South Carolina and that she was no longer authorized to handle controlled substances in the State in which she maintained her DEA registration.

The Government attached to its motion an affidavit from a Medical Board investigator documenting the Federal conviction, a copy of the Order of Temporary Suspension and a February 20, 2004, letter from the Medical Board, indicating that as of that date, Dr. Bordeaux's medical license was still suspended. While given the opportunity, Dr. Bordeaux did not file a response to the Government's motion.

On May 4, 2004, Judge Bittner issued the Opinion and Recommended Decision of the Administrative Law Judge (Opinion and Recommended Decision). As part of her recommended ruling, Judge Bittner granted the Government's Motion for Summary Judgment, finding Dr. Bordeaux lacked authorization handle controlled substances in South Carolina, the jurisdiction in which she is registered with DEA.

In granting the Government's motion, Judge Bittner further recommended that Dr. Bordeaux's DEA registration be revoked and that any pending applications for modification or renewal be denied. No exceptions to the Opinion and Recommended Decision were filed.

The Deputy Administrator has considered the record in its entirety and pursuant to 21 CFR 1316.67, hereby issues her final order based upon findings of fact and conclusions of law as hereinafter set forth. The Deputy Adminstrator adopts, in full, the Opinion and Recommended Decision of the Administrative Law Judge.

The Deputy Administrator finds that Dr. Bordeaux currently possesses DEA Certificate of Registration BB3869370 and is registered to handle controlled substances in the State of South Carolina. The Deputy Administrator further finds that in response to her Federal conviction, on March 10, 2003, the State Board issued an Order of Temporary Suspension immediately suspending Dr. Bordeaux's license to practice medicine in South Carolina. There is no evidence before the Deputy Administrator that the State Board's Order has been lifted, stayed or modified. Therefore, the Deputy Administrator finds that Dr. Bordeaux is currently not licensed to practice medicine in South Carolina and as a result, it is reasonable to infer she is also without authorization to handle controlled substances in that State.

DEA does not have statutory authority under the Controlled Substances Act to issue or maintain a registration if the applicant or registrant is without State authority to handle controlled substances in the State in which she conducts business. See 21 U.S.C. 802(21), 823(f) and 824(a)(3). This prerequisite has been consistently upheld. See Stephen J. Graham, M.D., 69 FR 11661 (2004); Dominick A. Ricci, M.D., 58 FR 51104 (1993); Bobby Watts, M.D., 53 FR 11919 (1988). Revocation is also appropriate when a State license has been suspended, but with the possibility of future reinstatement. See Alton E. Ingram, Jr., M.D., 69 FR 22562 (2004); Anne Lazar Thorn, M.D., 62 FR 847 (1997).

Here, it is clear Dr. Bordeaux is not currently licensed to handle controlled substances in South Carolina, where she is registered with DEA. Therefore, she is not entitled to maintain that registration. Because Dr. Bordeaux is not entitled to a DEA registration in South Carolina due to lack of State authorization to handle controlled substances, the Deputy Administrator concludes it is unnecessary to address whether Dr. Bordeaux's registration should be revoked based upon the remaining public interest grounds asserted in the Order to Show Cause/Immediate Suspension of Registration. See Fereida Walker-Graham, M.D., 68 FR 24761 (2003); Nathaniel-Aikens-Afful, M.D., 62 FR 16871 (1997); Sam F. Moore, D.V.M., 58 FR 14428 (1993).

Accordingly, the Deputy Administrator of the Drug Enforcement Administration, pursuant to the authority vested in her by 21 U.S.C. 823 and 824 and 28 CFR 0.100(b) and 0.104, hereby orders that DEA Certificate of Registration, BB3869370, issued to Deborah Bordeaux, M.D., be, and it hereby is, revoked. The Deputy Administrator further orders that any pending applications for renewal or modification of such registration be, and they hereby are, denied. This order is effective December 29, 2004.

Dated: November 10, 2004.
Michele M. Leonhart,
Deputy Administrator.

[FR Doc. 04-26306 Filed 11-26-04; 8:45 am]

BILLING CODE 4410-09-M